DEPARTMENT OF HOMELAND SECURITY

Federal Emergency Management Agency

[Docket ID FEMA-2023-0002; Internal Agency Docket No. FEMA-B-2345]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before September 11, 2023.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2345, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

Community | Community map repository address
Madison County, Illinois and Incorporated Areas
Project: 15-05-1840S Preliminary Date: August 10, 2022
City of Alton | City Hall, 101 East 3rd Street, Alton, IL 62002.
City of Collinsville | City Hall, 125 South Center Street, Collinsville, IL 62234.
City of Edwardsville | City Hall, 118 Hillsboro Avenue, Edwardsville, IL 62025.
City of Granite City | City Hall, 2000 Edison Avenue, Granite City, IL 62040.
City of Highland | City Hall, 1115 Broadway, Highland, IL 62249.
City of Madison | City Hall, 615 Madison Avenue, Madison, IL 62060.
City of Troy | Municipal Building, 116 East Market Street, Troy, IL 62294.
City of Venice | City Hall, 329 Broadway, Venice, IL 62090.
City of Wood River | City Hall, 111 North Wood River Avenue, Wood River, IL 62095.
Unincorporated Areas of Madison County | Madison County Administration Building, 157 North Main Street, Suite 254, Edwardsville, IL 62025.
Village of Alhambra | Village Hall, 602 West Main Street, Alhambra, IL 62001.
Village of Bethalto | Village Hall, 213 North Prairie Street, Bethalto, IL 62010.
Village of East Alton | East Alton Municipal Building, 119 West Main Street, East Alton, IL 62024.
Village of Fairmont City | City Hall Annex, 2568 North 41st Street, Suite C, Fairmont City, IL 62201.
Village of Glen Carbon | Village Hall, 151 North Main Street, Glen Carbon, IL 62034.
Village of Godfrey | Building and Zoning Administration, 6810 Godfrey Road, Godfrey, IL 62035.
Village of Grantfork | Grantfork Village Hall, 205 Rock Street, Highland, IL 62249.
Village of Hamel | Village Hall, 111 South Old U.S. Route 66, Hamel, IL 62046.
Village of Hartford | Village Hall, 140 West Hawthorne Street, Hartford, IL 62048.
Village of Livingston | Village Hall, 601 Livingston Avenue, Livingston, IL 62058.
Village of Marine | Village Hall, 320 North Vernon Street, Marine, IL 62061.
Village of Maryville | Village Hall, 2520 North Center Street, Maryville, IL 62062.
Village of Pierron | Village Hall, 203 Illinois Route 143, Pierron, IL 62273.
Village of Pontoon Beach | Administration Office, #1 Regency Parkway, Pontoon Beach, IL 62040.
Village of Roxana | Village Hall, 310 North Central Avenue, Roxana, IL 62084.
Village of South Roxana | Village Hall, 211 Sinclair Avenue, South Roxana, IL 62087.
Village of Williamson | Williamson Village Hall, 1201 Williamson Avenue, Staunton, IL 62088.
Monroe County, Illinois and Incorporated Areas
Project: 15-05-1852S Preliminary Date: July 15, 2022
City of Columbia | City Hall, 208 South Rapp Avenue, Columbia, IL 62236.
City of Waterloo | City Hall, 100 West Fourth Street, Waterloo, IL 62298.
Unincorporated Areas of Monroe County | Monroe County Courthouse, 100 South Main Street, Waterloo, IL 62298.
Village of Fults | Village Hall, 180 Church Street, Fults, IL 62244.
Village of Maeystown | Village Hall, 1030 Mill Street, Maeystown, IL 62256.
Village of Valmeyer | Village Hall, 260 Knobloch Boulevard, Valmeyer, IL 62295.
St. Clair County, Illinois and Incorporated Areas
Project: 15-05-1815S Preliminary Date: August 12, 2022
City of Belleville | City Hall, 101 South Illinois Street, Belleville, IL 62220.
City of Cahokia Heights | City of Cahokia Heights Code Enforcement Department, 4821 Bond Avenue, East St. Louis, IL 62207.
City of Collinsville | City Hall, 125 South Center Street, Collinsville, IL 62234.
City of East St. Louis | Municipal Building, 301 River Park Drive, East St. Louis, IL 62201.
City of Fairview Heights | Municipal Complex, 10025 Bunkum Road, Fairview Heights, IL 62208.
City of Lebanon | City Hall, 312 West St. Louis Street, Lebanon, IL 62254.
City of Madison | City Hall, 615 Madison Avenue, Madison, IL 62060.
City of Mascoutah | Municipal Building, 3 West Main Street, Mascoutah, IL 62258.
City of O'Fallon | City Hall, 255 South Lincoln Avenue, O'Fallon, IL 62269.
Unincorporated Areas of St. Clair County | St. Clair County Courthouse, #10 Public Square, Belleville, IL 62220.
Village of Brooklyn | City Hall, 312 South 5th Street, Brooklyn, IL 62059.
Village of Caseyville | Village Hall, 909 South Main Street, Caseyville, IL 62232.
Village of Dupo | Village Hall, 107 North 2nd Street, Dupo, IL 62239.
Village of East Carondelet | Village Hall, 950 State Street, East Carondelet, IL 62240.
Village of Fairmont City | City Hall Annex, 2568 North 41st Street, Suite C, Fairmont City, IL 62201.
Village of Fayetteville | Fayetteville Village Hall, 2212 Main Avenue, Mascoutah, IL 62258.
Village of Freeburg | Municipal Center, 14 Southgate Center, Freeburg, IL 62243.
Village of Lenzburg | Village Hall, 215 North Charles Street, Lenzburg, IL 62255.
Village of Marissa | Village Hall, 111 North Main Street, Marissa, IL 62257.
Village of Millstadt | Village Hall, 111 West Laurel Street, Millstadt, IL 62260.
Village of New Athens | Village Hall, 905 Spotsylvania Street, New Athens, IL 62264.
Village of New Baden | Village Hall, 1 East Hanover Street, New Baden, IL 62265.
Village of Sauget | Village Hall, 2897 Falling Springs Road, Sauget, IL 62206.
Village of Shiloh | Municipal Building, #1 Park Drive, Shiloh, IL 62269.
Village of Smithton | Village Hall, 101 South Main Street, Smithton, IL 62285.
Village of St. Libory | Village Hall, 743 Rutter Street, St. Libory, IL 62282.
Village of Summerfield | Village Office, 304 West Wakefield Street, Summerfield, IL 62289.
Village of Swansea | Government Center, 1444 Boul Avenue, Swansea, IL 62226.
Village of Washington Park | Washington Park Village Hall, 5218 North Park Drive, East St. Louis, IL 62204.
St. Mary's County, Maryland and Incorporated Areas
Project: 19-03-0027S Preliminary Date: November 29, 2022
Town of Leonardtown | Town Hall, 22670 Washington Street, Leonardtown, MD 20650.
Unincorporated Areas of St. Mary's County | St. Mary's County Department of Land Use and Growth Management, 23150 Leonard Hall Drive, Leonardtown, MD 20650.
Dodge County, Minnesota and Incorporated Areas
Project: 12-05-2135S Preliminary Date: February 15, 2023
City of Dodge Center | City Hall, 35 East Main Street, Dodge Center, MN 55927.
City of Hayfield | City Hall, 18 West Main Street, Hayfield, MN 55940.
City of Kasson | City Hall, 401 5th Street Southeast, Kasson, MN 55944.
City of Mantorville | City Hall, 21 5th Street East, Mantorville, MN 55955.
Unincorporated Areas of Dodge County | Dodge County Environmental Services Department, 721 Main Street North, Department 123, Mantorville, MN 55955.
Monroe County, West Virginia and Incorporated Areas
Project: 21-03-0007S Preliminary Date: October 31, 2022
Town of Alderson | City Hall, 311 South Monroe Street, Alderson, WV 24910.
Town of Peterstown | Town Hall, 229 Thomas Street, Peterstown, WV 24963.
Unincorporated Areas of Monroe County | Monroe County 911 Center, 39 Nota Street, Union, WV 24983.

[FR Doc. 2023-12476 Filed 6-9-23; 8:45 am]

BILLING CODE 9110-12-P